DEPARTMENT OF COMMERCE

National Oceanic and Atmospheric Administration

15 CFR Part 922

[Docket No. 970404078-0176—02; I.D. 091100G]

RIN 0638-AE41

Thunder Bay National Marine Sanctuary and Underwater Preserve Regulations; Correction and Announcement of Effective Date

AGENCY: Marine Sanctuaries Division (MSD), Office of Ocean and Coastal Resource Management (OCRM), National Ocean Service (NOS), National Oceanic and Atmospheric Administration (NOAA), Department of Commerce (DOC).

ACTION: Correction to final regulations and announcement of effective date.

SUMMARY: This document corrects the final regulations that were published in the Federal Register on Thursday, June 22, 2000, (65 FR 39042), and announces an effective date for them of September 25, 2000. The regulations implement the designation of the Thunder Bay National Marine Sanctuary and Underwater Preserve which is located in western Lake Huron in State of Michigan waters.

DATES: The final regulations published at 65 FR 39042 (June 22, 2000) and the corrections made by this document are effective September 25, 2000.

FOR FURTHER INFORMATION CONTACT: Ms. Ellen Brody, (734) 741-2270.

SUPPLEMENTARY INFORMATION:

Background

This document corrects the final regulations implementing the designation of the Thunder Bay National Marine Sanctuary and Underwater Preserve, which encompasses an area of the State of Michigan waters over and surrounding Thunder Bay, and the submerged lands thereunder including the Bay, in western Lake Huron. The Federal Register document publishing those regulations also contained the Designation Document and summarized the final management plan for the Sanctuary. The Designation Document sets forth the geographic area included within the Sanctuary, the characteristics of the area that give it conservation, recreational, ecological, historical, research, educational, or esthetic value, and the type of activities subject to regulation. The management plan details the goals and objectives, management responsibilities, research activities, interpretive and educational programs, and enforcement activities of the area. As stated in the preamble to the final rule, the regulations become effective after the close of a review period of 45 days of continuous session of Congress beginning on the day on which the final rule was published unless the Governor of the State of Michigan certifies to the Secretary of Commerce that the designation or any of its terms is unacceptable, in which case the designation or any unacceptable terms shall not take effect. The Congressional review period ended on September 24, 2000, without the Governor of the State of Michigan certifying to the Secretary of Commerce that the designation or any of its terms is unacceptable. Accordingly, the designation of the Sanctuary and the regulations implementing that designation became effective on September 25, 2000. The Secretary of Commerce intends to sign the Designation Document for the Sanctuary on October 7, 2000. This Federal Register document announces the effective date of the designation and for the regulations implementing that designation as September 25, 2000. This document also corrects, effective September 25, 2000, two errors in those regulations.

Need For Correction

Because of the omission of asterisks when revising the term “Sanctuary resource” in § 922.3 of 15 CFR part 922, “Definitions”, all terms were inadvertently deleted except for the revised term “Sanctuary resource”. There is a need to restore the deleted terms. Also in § 922.50 of 15 CFR part 922, the first paragraph following paragraph (a)(1)(iii) was inadvertently designated as paragraph (b) instead of as paragraph (a)(2). This needs to be corrected.

Correction of Publication

Accordingly, the publication on June 22, 2000, of the final regulations implementing the designation of the Thunder Bay National Marine Sanctuary and Underwater Preserve, which were the subject of FR Doc. 00-15638, (65 FR 39042), is corrected as follows:

§ 922.3 [Corrected]

1. On page 39055, in the first column, amendatory instruction 3 is corrected to read as follows:

3. Section 922.3 is amended by revising the definition for “Sanctuary resource” to read as follows:

2. On page 39055, beginning in the first column, in § 922.3, add five asterisks before and after the definition of “Sanctuary resource”.

§ 922.50 [Corrected]

3. On page 39056, in the third column, in § 922.50, correct the paragraph designation (b) to read (a)(2).

Dated: October 4, 2000.
Margaret A. Davidson,
Acting Assistant Administrator for Ocean Services and Coastal Zone Management.

[FR Doc. 00-25938 Filed 10-4-00; 1:57 pm]

BILLING CODE 3510-08-S